DEPARTMENT OF STATE

[Public Notice: 12297]

Report to Congress Pursuant to the United States—Northern Triangle Enhanced Engagement Act

ACTION: Notice of report.

SUMMARY: This document provides an update to the Department of State's report to Congress on July 19, 2023, regarding foreign persons who are determined to have knowingly engaged in actions that undermine democratic processes or institutions, significant corruption, or obstruction of investigation into such acts of corruption in El Salvador, Guatemala, and Honduras pursuant to the United States—Northern Triangle Enhanced Engagement Act, as amended.

SUPPLEMENTARY INFORMATION: Report to Congress on Foreign Persons who have Knowingly Engaged in Actions that Undermine Democratic Processes or Institutions, or in Significant Corruption, or in Obstruction of Investigations into Such Acts of Corruption, in El Salvador, Guatemala, Honduras, and Nicaragua Pursuant to Section 353(b) of the Department of State, Foreign Operations, and Related Programs Appropriations Act, 2021

(Div. FF, Pub. L. 116-260, as amended) (Section 353)

Consistent with section 353(b) of the United States—Northern Triangle Enhanced Engagement Act (Div. FF, Pub. L. 116-260) (the Act), as amended, this report is being submitted to the House Foreign Affairs Committee, Senate Foreign Relations Committee, House Committee on the Judiciary, and the Senate Committee on the Judiciary.

This document provides an update to the Department of State's report to Congress on July 19, 2023. Section 353(b) requires the submission of a report that identifies the following persons in El Salvador, Guatemala, Honduras, and Nicaragua: foreign persons who the President has determined have knowingly engaged (1) in actions that undermine democratic processes or institutions; (2) in significant corruption; and (3) in obstruction of investigations into such acts of corruption, including the following: corruption related to government contracts; bribery and extortion; the facilitation or transfer of the proceeds of corruption, including through money laundering; and acts of violence, harassment, or intimidation directed at governmental and nongovernmental corruption investigators. On November 10, 2021, the President signed the Reinforcing Nicaragua's Adherence to Conditions for Electoral Reform (RENACER) Act, adding Nicaragua to the countries within the scope of Section 353. On June 21, 2021, the President delegated his authority under section 353 to the Secretary of State.

Under section 353, foreign persons identified in the report submitted to Congress are generally ineligible for visas and admission to the United States and any current visa shall be revoked and any other valid visa or entry documentation cancelled. Consistent with section 353(g), this report will be published in the Federal Register.

This report includes individuals who the Secretary has determined have engaged in the relevant activity based upon credible information. The Department will continue to review the individuals listed in the report and consider all available tools to deter and disrupt corrupt and undemocratic activity in El Salvador, Guatemala, Honduras, and Nicaragua. The Department also continues to actively review additional credible information and allegations concerning corruption or undemocratic activity and to utilize all applicable authorities, as appropriate, to ensure corrupt or undemocratic officials are denied safe haven in the United States.

El Salvador

Ricardo Gomez, President Commissioner of the Institute for Access to Public Information, undermined democratic processes or institutions by purposefully and wrongfully blocking access to public information through his position as President Commissioner at the Institute for Access to Public Information.

Gerardo Guerrero, commissioner of the Institute for Access to Public Information, undermined democratic processes or institutions by purposefully and wrongfully blocking access to public information through his position as a Commissioner at the Institute for Access to Public Information.

Andrés Grégori Rodríguez, commissioner of the Institute for Access to Public Information, undermined democratic processes or institutions by purposefully and wrongfully blocking access to public information through his position as a Commissioner at the Institute for Access to Public Information.

Honduras

Ricardo Arturo Salgado Bonilla, Current Minister of Strategic Planning, undermined democratic processes or institutions by directing the LIBRE party's coordinated efforts through party loyalist groups (“colectivos”) to suppress dissent by violently intimidating opposition legislators calling for a legislative session on October 31, 2023.

Mohammad Yusuf Amdani Bai, a private businessman, engaged in significant corruption by bribing Honduran Supreme Court officials to rule in favor of his business in a private lawsuit.

Cristian Adolfo Sánchez, engaged in significant corruption by participating in a scheme that defrauded the Honduran government of more than $300,000, and colluded with Ministry of Health officials to improperly award government contracts.

Guatemala

Leonor Eugenia Morales Lazo, current prosecutor, undermined democratic processes or institutions by leading a politically-motivated investigation to cast doubt on certified election results to disrupt the presidential transition.

Noe Nehemías Rivera Vasquez, current prosecutor, undermined democratic processes or institutions by bringing politically motivated charges against justice actors fighting corruption and impunity.

Pedro Otto Hernandez Gonzalez, current prosecutor, undermined democratic processes or institutions by participating in a politically-motivated investigation to cast doubt on certified election results to disrupt the presidential transition.

Silvia Patricia Valdes Quezada, a former Supreme Court of Justice magistrate, undermined democratic processes or institutions by participating in the “Parallel Commissions” scheme to stack the Supreme Court and Appellate Courts with corrupt judges.

Nicaragua

Gloria Maria Saavedra Corrales, Judge in the Tenth Criminal District Court of Hearings of Managua, undermined democratic processes or institutions by using her position and authority within the Nicaraguan judicial system to knowingly facilitate a coordinated campaign to suppress dissent by confiscating property from the Jesuit Central American University without a legal basis, in order to install a regime-friendly administration.

Maribel del Socorro Duriez González, President of Nicaragua's National Council for Evaluation and Accreditation (CNEA), undermined democratic processes or institutions by taking part in a coordinated campaign to suppress dissent by confiscating property from the government's political opponents, including the Central American University (UCA) and at least 25 other private Nicaraguan universities, without a legal basis, in order to install a regime-friendly administrations.

Ramona Rodriguez Perez, President of Nicaragua's National Council of Universities (CNU), undermined democratic processes or institutions by taking part in a coordinated campaign to suppress dissent by confiscating property from the government's political opponents, including Central American University (UCA) and at least 25 other private Nicaraguan universities, without a legal basis, in order to install a regime-friendly administrations.

Alejandro Enrique Genet Cruz, Rector of Casimiro Sotelo University (formerly Central American University), undermined democratic processes or institutions by taking part in a coordinated campaign to retaliate against critics of the Ortega-Murillo regime and to suppress dissent by using his position to create policies that punish Casimiro Sotelo University faculty and students who do not take part in political activities for Ortega's Sandinista National Liberation Front (FSLN) political party.

Dated: December 20, 2023.
Richard Verma,
Deputy Secretary of State for Management and Resources.

[FR Doc. 2024-00346 Filed 1-9-24; 8:45 am]

BILLING CODE 4710-29-P